DEPARTMENT OF HOMELAND SECURITY

Coast Guard

46 CFR Part 16

Chemical Testing

CFR Correction

In Title 46 of the Code of Federal Regulations, Parts 1 to 40, revised as of October 1, 2010, on page 254, in § 16.105, in the definition of Crewmember, remove the second paragraph (1) and the second introductory paragraph (2).

[FR Doc. 2011-6524 Filed 3-17-11; 8:45 am]

BILLING CODE 1505-01-D